INTER-AMERICAN FOUNDATION

Sunshine Act Meetings

TIME AND DATE: May 4, 2021, 10:30 a.m.-12:30 p.m.

PLACE: Via tele-conference.

STATUS: Meeting of the Board of Directors, open to the public.

MATTERS TO BE CONSIDERED:

Call to order

Approval of the Minutes from the November 09, 2020, Meeting of the Board of Directors and Advisory Council

Remarks from IAF President/CEO

Management Team Updates

Discussion

Adjournment

CONTACT PERSON FOR MORE INFORMATION: Aswathi Zachariah, General Counsel, (202) 683-7118.

For Dial-in Information Contact: Karen Vargas, Board Liaison, (202) 524-8869.

Aswathi Zachariah,
General Counsel.

[FR Doc. 2021-09290 Filed 4-29-21; 4:15 pm]

BILLING CODE 7025-01-P